DEPARTMENT OF TRANSPORTATION

Coast Guard

46 CFR Part 401

[USCG-2002-11288]

RIN 2115-AG30

Rates for Pilotage on the Great Lakes

AGENCY: Coast Guard, DOT.

ACTION: Notice of extension of comment period and notice of intent.

SUMMARY: The Coast Guard is extending the comment period on the Notice of Proposed Rulemaking (NPRM) on rates for pilotage on the Great Lakes published in the Federal Register January 23, 2003, for 45 days. This will extend the comment period to April 24, 2003. The Coast Guard also intends to delay the publishing of an Interim Rule (IR) previously planned for February 12, 2003 (68 FR 3204), to about April 30, 2003.

DATES: Comments and related material must reach the Docket Management Facility on or before April 24, 2003.

ADDRESSES: You may submit your comments directly to the Docket Management Facility. To make sure that your comments and related material do not enter the docket [USCG-2002-11288] more than once, please submit them by only one of the following means:

(1) By mail to the Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments, and related material as indicated in this notice, will become part of this docket and will be available for inspection or copying at room PL-401, on the Plaza level of the Nassif Building at the same address between 9 a.m. and 5 p.m., Monday through Friday, except Federal holidays. You may also access this docket on the Internet at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

FOR FURTHER INFORMATION CONTACT: For questions on this notice, call or e-mail Tom Lawler, Chief Economist, Office of Great Lakes Pilotage (G-MW-1), U.S. Coast Guard, at telephone 202-267-1241, or tlawler@comdt.uscg.mil. For questions on viewing, or submitting material to the docket, call Dorothy Beard, Chief, Dockets, Department of Transportation, telephone 202-366-9329.

SUPPLEMENTARY INFORMATION:

Requests for Comments

The Coast Guard encourages you to submit comments and related material concerning the NPRM on “Rates for Pilotage on the Great Lakes” published January 23, 2003, [68 FR 3203] in the Federal Register. If you do so, please include your name and address, identify the docket number [USCG-2002-11288], and give the reasons for each comment. You may submit your comments and material by mail, delivery, fax, or electronic means to the Docket Management Facility at the address under ADDRESSES; but please submit your comments and material by only one means. If you submit them by mail or delivery, submit them in an unbound format, no larger than 8½ by 11 inches, suitable for copying and electronic filing. If you submit them by mail and would like to know they reached the Facility, please enclose a stamped, self-addressed postcard or envelope. We will consider all comments and material received during the comment period.

Background Information

On January 23, 2003, the Coast Guard published an NPRM in the Federal Register to update the rates for pilotage on the Great Lakes. At a public meeting conducted on January 31, 2003, in Cleveland, OH, it received requests from the public to extend the comment period and to delay the issuance of an IR until after the comment period has ended.

A comment submitted to the docket has similarly requested that the comment period be extended by 45 days and an IR be delayed until the comment period has closed.

We have decided to grant this request for an extension of the comment period from March 10, 2003, to April 24, 2003, and to delay the publication of an IR until after the close of the comment period. The delay will allow the Coast Guard to collect and review all comments before it issues an IR.

The Coast Guard has also extended the comment period to obtain comments on two specific aspects of the NPRM and to obtain industry-related information that will aid the Coast Guard in assessing the economic impact of the IR.

To assist the Coast Guard in analyzing the impact of the IR on industry, the public should comment on the following issues:

1. Determining the total cost of operating a vessel on the Great Lakes and determining what percentages of those costs are attributable to: (a) Pilotage fees, (b) dockage, (c) longshoremen services, (d) tug services, (e) port and agent fees, (f) running expenses, and (g) other operating expenses.

2. Projections of traffic and cargoes anticipated for the 2003 navigational season.

Dated: February 10, 2003.
Joseph J. Angelo,
Acting Assistant Commandant for Marine Safety, Security and Environmental Protection.

[FR Doc. 03-3737 Filed 2-11-03; 3:00 pm]

BILLING CODE 4910-15-P